DEPARTMENT OF COMMERCE

International Trade Administration

Antidumping or Countervailing Duty Order, Finding, or Suspended Investigation; Advance Notification of Sunset Review

AGENCY: Enforcement and Compliance, International Trade Administration, Department of Commerce.

Background

Every five years, pursuant to the Tariff Act of 1930, as amended (the Act), the Department of Commerce (Commerce) and the International Trade Commission automatically initiate and conduct reviews to determine whether revocation of a countervailing or antidumping duty order or termination of an investigation suspended under section 704 or 734 of the Act would be likely to lead to continuation or recurrence of dumping or a countervailable subsidy (as the case may be) and of material injury.

Upcoming Sunset Reviews for February 2022

Pursuant to section 751(c) of the Act, the following Sunset Reviews are scheduled for initiation in February 2022 and will appear in that month's Notice of Initiation of Five-Year Sunset Reviews (Sunset Review).

| Department contact
Antidumping Duty Proceedings
Ammonium Sulfate from China A-570-049 (1st Review) | Thomas Martin, (202) 482-3936.
Amorphous Silica Fabric from China A-570-038 (1st Review) | Jacky Arrowsmith, (202) 482-5255.
Artist Canvas from China A-570-899 (3rd Review) | Mary Kolberg, (202) 482-1785.
Biaxial Integral Geogrid Products from China A-570-036 (1st Review) | Thomas Martin, (202) 482-3936.
Off-The-Road Tires from India A-533-869 (1st Review) | Thomas Martin, (202) 482-3936.
Countervailing Duty Proceedings
Ammonium Sulfate from China C-570-050 (1st Review) | Thomas Martin, (202) 482-3936.
Amorphous Silica Fabric from China C-570-039 (1st Review) | Jacky Arrowsmith, (202) 482-5255.
Biaxial Integral Geogrid Products from China C-570-037 (1st Review) | Thomas Martin, (202) 482-3936.
Off-The-Road Tires from India C-533-870 (1st Review) | Jacky Arrowsmith, (202) 482-5255.
Suspended Investigations
No Sunset Review of suspended investigations is scheduled for initiation in February 2022

Commerce's procedures for the conduct of Sunset Review are set forth in 19 CFR 351.218. The Notice of Initiation of Five-Year (Sunset) Review provides further information regarding what is required of all parties to participate in Sunset Review.

Pursuant to 19 CFR 351.103(c), Commerce will maintain and make available a service list for these proceedings. To facilitate the timely preparation of the service list(s), it is requested that those seeking recognition as interested parties to a proceeding contact Commerce in writing within 10 days of the publication of the Notice of Initiation.

Please note that if Commerce receives a Notice of Intent to Participate from a member of the domestic industry within 15 days of the date of initiation, the review will continue.

Thereafter, any interested party wishing to participate in the Sunset Review must provide substantive comments in response to the notice of initiation no later than 30 days after the date of initiation. Note that Commerce has modified certain of its requirements for serving documents containing business proprietary information, until further notice.¹

¹ See Temporary Rule Modifying AD/CVD Service Requirements Due to COVID-19; Extension of Effective Period, 85 FR 41363 (July 10, 2020).

This notice is not required by statute but is published as a service to the international trading community.

Dated: December 14, 2021.
James Maeder,
Deputy Assistant Secretary for Antidumping and Countervailing Duty Operations.

Opportunity To Request a Review: Not later than the last day of January 2022,² interested parties may request administrative review of the following orders, findings, or suspended investigations, with anniversary dates in January for the following periods:

² Or the next business day, if the deadline falls on a weekend, federal holiday or any other day when Commerce is closed.

| Period to review
Antidumping Duty Proceedings
BELARUS: Carbon and Alloy Steel Wire Rod, A-822-806 | 1/1/21-12/31/21
BRAZIL: Prestressed Concrete Steel Wire Stand, A-351-837 | 1/1/21-12/31/21
CANADA: Softwood Lumber, A-122-857 | 1/1/21-12/31/21
GERMANY: Forged Steel Fluid End Blocks, A-428-847 | 7/23/20-12/31/21
INDIA: Prestressed Concrete Steel Wire Strand, A-533-828 | 1/1/21-12/31/21
Polyester Textured Yarn, A-533-885 | 1/1/21-12/31/21
ITALY: Forged Steel Fluid End Blocks, A-475-840 | 7/23/20-12/31/21
MEXICO: Prestressed Concrete Steel Wire Strand, A-201-831 | 1/1/21-12/31/21
REPUBLIC OF KOREA: Prestressed Concrete Steel Wire Strand, A-580-852 | 1/1/21-12/31/21
RUSSIA: Carbon and Alloy Steel Wire Rod, A-821-824 | 1/1/21-12/31/21
SOUTH AFRICA: Ferrovanadium, A-791-815 | 1/1/21-12/31/21
THAILAND: Prestressed Concrete Steel Wire Strand, A-549-820 | 1/1/21-12/31/21
THE PEOPLE'S REPUBLIC OF CHINA: Calcium Hypochlorite, A-570-008 | 1/1/21-12/31/21
Carbon and Certain Alloy Steel Wire Rod, A-570-012 | 1/1/21-12/31/21
Certain Crepe Paper Products, A-570-895 | 1/1/21-12/31/21
Certain Hardwood Plywood Products, A-570-051 | 1/1/21-12/31/21
Ferrovanadium, A-570-873 | 1/1/21-12/31/21
Folding Gift Boxes, A-570-866 | 1/1/21-12/31/21
Polyester Textured Yarn, A-570-097 | 1/1/21-12/31/21
Potassium Permanganate, A-570-001 | 1/1/21-12/31/21
Wooden Bedroom Furniture, A-570-890 | 1/1/21-12/31/21
UNITED ARAB EMIRATES: Carbon and Alloy Steel Wire Rod, A-520-808 | 1/1/21-12/31/21
Countervailing Duty Proceedings
ARGENTINA: Biodiesel, C-357-821 | 1/1/21-12/31/21
CANADA: Softwood Lumber, C-122-858 | 1/1/21-12/31/21
GERMANY: Forged Steel Fluid End Blocks, C-428-848 | 5/26/2020-12/31/2021
INDIA: Polyester Textured Yarn, C-533-886 | 1/1/21-12/31/21
Forged Steel Fluid End Blocks, C-533-894 | 5/26/2020-12/31/2021
INDONESIA: Biodiesel, C-560-831 | 1/1/21-12/31/21
ITALY: Forged Steel Fluid End Blocks, C-475-841 | 5/26/2020-12/31/2021
THE PEOPLE'S REPUBLIC OF CHINA: Calcium Hypochlorite, C-570-009 | 1/1/21-12/31/21
Carbon and Certain Alloy Steel Wire Rod, C-570-013 | 1/1/21-12/31/21
Circular Welded Carbon Quality Steel Line Pipe, C-570-936 | 1/1/21-12/31/21
Certain Hardwood Plywood Products, C-570-052 | 1/1/21-12/31/21
Certain Oil Country Tubular Goods, C-570-944 | 1/1/21-12/31/21
Certain Tool Chests and Cabinets, C-570-057 | 1/1/21-12/31/21
Forged Steel Fluid End Blocks, C-570-116 | 5/26/2020-12/31/2021
Polyester Textured Yarn, C-570-098 | 1/1/21-12/31/21
Suspension Agreements
RUSSIA: Certain Cut To Length Carbon Steel Plate, A-821-808 | 1/1/21-12/31/21

In accordance with 19 CFR 351.213(b), an interested party as defined by section 771(9) of the Act may request in writing that the Secretary conduct an administrative review. For both antidumping and countervailing duty reviews, the interested party must specify the individual producers or exporters covered by an antidumping finding or an antidumping or countervailing duty order or suspension agreement for which it is requesting a review. In addition, a domestic interested party or an interested party described in section 771(9)(B) of the Act must state why it desires the Secretary to review those particular producers or exporters. If the interested party intends for the Secretary to review sales of merchandise by an exporter (or a producer if that producer also exports merchandise from other suppliers) which was produced in more than one country of origin and each country of origin is subject to a separate order, then the interested party must state specifically, on an order-by-order basis, which exporter(s) the request is intended to cover.

Note that, for any party Commerce was unable to locate in prior segments, Commerce will not accept a request for an administrative review of that party absent new information as to the party's location. Moreover, if the interested party who files a request for review is unable to locate the producer or exporter for which it requested the review, the interested party must provide an explanation of the attempts it made to locate the producer or exporter at the same time it files its request for review, in order for the Secretary to determine if the interested party's attempts were reasonable, pursuant to 19 CFR 351.303(f)(3)(ii).

As explained in Antidumping and Countervailing Duty Proceedings: Assessment of Antidumping Duties, 68 FR 23954 (May 6, 2003), and Non-Market Economy Antidumping Proceedings: Assessment of Antidumping Duties, 76 FR 65694 (October 24, 2011), Commerce clarified its practice with respect to the collection of final antidumping duties on imports of merchandise where intermediate firms are involved. The public should be aware of this clarification in determining whether to request an administrative review of merchandise subject to antidumping findings and orders.³

³ See the Enforcement and Compliance website at https://www.trade.gov/us-antidumping-and-countervailing-duties.

Commerce no longer considers the non-market economy (NME) entity as an exporter conditionally subject to an antidumping duty administrative reviews.⁴ Accordingly, the NME entity will not be under review unless Commerce specifically receives a request for, or self-initiates, a review of the NME entity.⁵ In administrative reviews of antidumping duty orders on merchandise from NME countries where a review of the NME entity has not been initiated, but where an individual exporter for which a review was initiated does not qualify for a separate rate, Commerce will issue a final decision indicating that the company in question is part of the NME entity. However, in that situation, because no review of the NME entity was conducted, the NME entity's entries were not subject to the review and the rate for the NME entity is not subject to change as a result of that review (although the rate for the individual exporter may change as a function of the finding that the exporter is part of the NME entity). Following initiation of an antidumping administrative review when there is no review requested of the NME entity, Commerce will instruct CBP to liquidate entries for all exporters not named in the initiation notice, including those that were suspended at the NME entity rate.

⁴ See Antidumping Proceedings: Announcement of Change in Department Practice for Respondent Selection in Antidumping Duty Proceedings and Conditional Review of the Nonmarket Economy Entity in NME Antidumping Duty Proceedings, 78 FR 65963 (November 4, 2013).

⁵ In accordance with 19 CFR 351.213(b)(1), parties should specify that they are requesting a review of entries from exporters comprising the entity, and to the extent possible, include the names of such exporters in their request.

All requests must be filed electronically in Enforcement and Compliance's Antidumping and Countervailing Duty Centralized Electronic Service System (ACCESS) on Enforcement and Compliance's ACCESS website at https://access.trade.gov.⁶ Further, in accordance with 19 CFR 351.303(f)(l)(i), a copy of each request must be served on the petitioner and each exporter or producer specified in the request. Note that Commerce has temporarily modified certain of its requirements for serving documents containing business proprietary information, until further notice.⁷

⁶ See Antidumping and Countervailing Duty Proceedings: Electronic Filing Procedures; Administrative Protective Order Procedures, 76 FR 39263 (July 6, 2011).

⁷ See Temporary Rule Modifying AD/CVD Service Requirements Due to COVID-19, 85 FR 41363 (July 10, 2020).

Commerce will publish in the Federal Register a notice of “Initiation of Administrative Review of Antidumping or Countervailing Duty Order, Finding, or Suspended Investigation” for requests received by the last day of January 2022. If Commerce does not receive, by the last day of January 2022, a request for review of entries covered by an order, finding, or suspended investigation listed in this notice and for the period identified above, Commerce will instruct CBP to assess antidumping or countervailing duties on those entries at a rate equal to the cash deposit of estimated antidumping or countervailing duties required on those entries at the time of entry, or withdrawal from warehouse, for consumption and to continue to collect the cash deposit previously ordered.

For the first administrative review of any order, there will be no assessment of antidumping or countervailing duties on entries of subject merchandise entered, or withdrawn from warehouse, for consumption during the relevant provisional-measures “gap” period of the order, if such a gap period is applicable to the period of review.

Establishment of and Updates to the Annual Inquiry Service List

On September 20, 2021, Commerce published the final rule titled “Regulations to Improve Administration and Enforcement of Antidumping and Countervailing Duty Laws” in the Federal Register.⁸ On September 27, 2021, Commerce also published the notice entitled “Scope Ruling Application; Annual Inquiry Service List; and Informational Sessions” in the Federal Register.⁹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹⁰

⁸ See Regulations to Improve Administration and Enforcement of Antidumping and Countervailing Duty Laws, 86 FR 52300 (September 20, 2021) (Final Rule).

⁹ See Scope Ruling Application; Annual Inquiry Service List; and Informational Sessions, 86 FR 53205 (September 27, 2021) (Procedural Guidance).

¹⁰ Id.

In accordance with the Procedural Guidance, for orders published in the Federal Register before November 4, 2021, Commerce created an annual inquiry service list segment for each order and suspended investigation. Interested parties who wished to be added to the annual inquiry service list for an order submitted an entry of appearance to the annual inquiry service list segment for the order in ACCESS, and on November 4, 2021, Commerce finalized the initial annual inquiry service lists for each order and suspended investigation. Each annual inquiry service list has been saved as a public service list in ACCESS, under each case number, and under a specific segment type called “AISL-Annual Inquiry Service List.” ¹¹

¹¹ This segment has been combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

As mentioned in the Procedural Guidance, beginning in January 2022, Commerce will update these annual inquiry service lists on an annual basis when the Opportunity Notice for the anniversary month of the order or suspended investigation is published in the Federal Register.¹² Accordingly, Commerce will update the annual inquiry service lists for the above-listed antidumping and countervailing duty proceedings. All interested parties wishing to appear on the updated annual inquiry service list must take one of the two following actions: (1) New interested parties who did not previously submit an entry of appearance must submit a new entry of appearance at this time; (2) Interested parties who were included in the preceding annual inquiry service list must submit an amended entry of appearance to be included in the next year's annual inquiry service list. For these interested parties, Commerce will change the entry of appearance status from “Active” to “Needs Amendment” for the annual inquiry service lists corresponding to the above-listed proceedings. This will allow those interested parties to make any necessary amendments and resubmit their entries of appearance. If no amendments need to be made, the interested party should indicate in the area on the ACCESS form requesting an explanation for the amendment that it is resubmitting its entry of appearance for inclusion in the annual inquiry service list for the following year. As mentioned in the Final Rule,¹³ once the petitioners and foreign governments have submitted an entry of appearance for the first time, they will automatically be added to the updated annual inquiry service list each year.

¹² See Procedural Guidance, 86 FR at 53206.

¹³ See Final Rule, 86 FR at 52335.

[FR Doc. 2021-28406 Filed 12-30-21; 8:45 am]

BILLING CODE 3510-DS-P